DEPARTMENT OF COMMERCE

International Trade Administration

[A-583-008]

Certain Circular Welded Carbon Steel Pipes and Tubes from Taiwan: Final Rescission of Antidumping Duty Administrative Review

AGENCY: Import Administration, International Trade Administration, Department of Commerce.

SUMMARY: In response to a request from Allied Tube & Conduit Corporation, a domestic interested party, the Department of Commerce (the Department) initiated an administrative review of the antidumping duty order on certain circular welded carbon steel pipes and tubes from Taiwan. This review covers one firm, Yieh Hsing Enterprise Co., Ltd. (Yieh Hsing), for the period May 1, 2007, through April 30, 2008. No interested party commented on the Department's intent to rescind this review based upon its determination that the party subject to this review did not have entries of subject merchandise during the period of review (POR) on which to assess antidumping duties.

EFFECTIVE DATE: April 20, 2009.

FOR FURTHER INFORMATION CONTACT: Steve Bezirganian or Robert James, AD/CVD Operations, Office 7, Import Administration, International Trade Administration, U.S. Department of Commerce, 14th Street and Constitution Avenue, NW, Washington, DC 20230; telephone: (202) 482-1131 or (202) 482-0649, respectively.

SUPPLEMENTARY INFORMATION:

Background

On January 21, 2009, the Department published a notice of its intent to rescind this administrative review. See Certain Circular Welded Carbon Steel Pipes and Tubes from Taiwan: Notice of Intent to Rescind Administrative Review, 74 FR 3559 (January 21, 2009) (Intent to Rescind). We invited interested parties to comment on our preliminary intent to rescind this review based upon our determination that the party subject to this review did not have entries during the POR on which to assess antidumping duties. No interested party submitted comments.

Scope of the Order

The merchandise covered by the order is certain circular welded carbon steel pipes and tubes from Taiwan, which are defined as: welded carbon steel pipes and tubes, of circular cross section, with walls not thinner than 0.065 inch, and 0.375 inch or more but not over 4.5 inches in outside diameter, currently classified under Harmonized Tariff Schedule of the United States (HTSUS) item numbers 7306.30.5025, 7306.30.5032, 7306.30.5040, and 7306.30.5055. Although the HTSUS subheadings are provided for convenience and customs purposes, the written description of the scope of the order is dispositive.

Rescission of Administrative Review

The Department issued the Intent to Rescind because it was satisfied that there were no U.S. entries of subject merchandise from the respondent, Yieh Hsing, during the POR as indicated by the record. See Intent to Rescind, 74 FR at 3560. As the Department received no comments on its intent to rescind this review, it continues to find that rescission of the review is appropriate. Therefore, pursuant to 19 CFR 351.213(d), the Department is rescinding this review.

Assessment

The Department intends to issue assessment instructions to U.S. Customs and Border Protection (CBP) 15 days after the date of publication of this rescission of administrative review. Because Yieh Hsing certified that it made no POR shipments of subject merchandise for which it had knowledge of U.S. destination, we will instruct CBP to liquidate any entries of merchandise produced by Yieh Hsing at the all-others rate established in the less-than-fair-value investigation if there is no rate for the exporter involved in the transaction. See Antidumping and Countervailing Duty Proceedings: Assessment of Antidumping Duties, 68 FR 23954 (May 6, 2003). See also Certain Frozen Warmwater Shrimp from India: Partial Rescission of Antidumping Duty Administrative Review, 73 FR 77610, 77612 (December 19, 2008).

Notification to Importers

This notice serves as a final reminder to importers for whom this review is being rescinded, of their responsibility under 19 CFR 351.402(f) to file a certificate regarding reimbursement of antidumping duties prior to liquidation of the relevant entries during this review period. Failure to comply with this requirement could result in the Secretary's presumption that reimbursement of antidumping duties occurred and the subsequent assessment of double antidumping duties.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR 351.213(d)(4).

Dated: April 13, 2009.
John M. Andersen,
Acting Deputy Assistant Secretary for Antidumping and Countervailing Duty Operations.

[FR Doc. E9-9018 Filed 4-17-09; 8:45 am]

BILLING CODE 3510-DS-S